ENVIRONMENTAL PROTECTION AGENCY

40 CFR Part 62

[PA-131-4090b; FRL-7205-5]

Approval and Promulgation of State Air Quality Plans for Designated Facilities and Pollutants; Pennsylvania; Control of Emissions from Existing Hospital/Medical/Infectious Waste Incinerators

AGENCY: Environmental Protection Agency (EPA).

ACTION: Proposed rule.

SUMMARY: EPA proposes to approve the Commonwealth of Pennsylvania 111(d)/129 plan (the “plan”) for the control of air pollutant emissions from hospital/medical/infectious waste incinerators (HMIWIs). The plan was developed and submitted to EPA by the Pennsylvania Department of Environmental Protection (PADEP), Bureau of Air Quality, on October 26, 1998, and as amended on December 3, 1999, May 4, August 9, and October 22, 2001. Also, EPA proposes to approve the PADEP's delegation request to implement and enforce the increments of progress and compliance schedules promulgated under the August 15, 2000 Federal HMIWI 111(d)/129 plan (65 FR 49868). The Pennsylvania plan covers all affected facilities in the geographic area of the Commonwealth of Pennsylvania, except for Allegheny County where designated facilities are regulated under the Allegheny County Health Department HMIWI 111(d)/129 plan. In the Final Rules section of this Federal Register, EPA is approving the Commonwealth's 111(d)/129 plan submittal as a direct final rule without prior proposal because the Agency views this as a noncontroversial action and anticipate no adverse comments. A more detailed description of the state submittal and EPA's evaluation are included in a Technical Support Document (TSD) prepared in support of this rulemaking action. A copy of the TSD is available, upon request, from the EPA Regional Office listed in the ADDRESSES section of this document. If no adverse comments are received in response to this action, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Comments must be received in writing by June 3, 2002.

ADDRESSES: Written comments should be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Pennsylvania Department of Environmental Protection, Bureau of Air Quality, Rachel Carson State Office Building, 400 Market Street, Harrisburg, Pennsylvania 17105-8465.

FOR FURTHER INFORMATION CONTACT: James B. Topsale at (215) 814-2190, or by e-mail at topsale.jim@epa.gov. Please note that while questions may be posed via phone and e-mail, formal comments must be submitted in writing, as indicated in the ADDRESSES section of this document.

SUPPLEMENTARY INFORMATION: For further information, please see the information provided in the direct final action, with the same title, that is located in the “Rules and Regulations” section of this Federal Register publication.

Dated: April 25, 2002.
Thomas C. Voltaggio,
Acting Regional Administrator, Region III.

[FR Doc. 02-10874 Filed 5-2-02; 8:45 am]

BILLING CODE 6560-50-P